POSTAL REGULATORY COMMISSION

[Docket Nos. CP2022-74 and CP2022-77; Order No. 6532]

Competitive Products

AGENCY: Postal Regulatory Commission.

ACTION: Notice.

SUMMARY: The Commission is extending the comment deadline in Docket Nos. CP2022-74 and CP2022-77. This notice informs the public of the filing, invites public comment, and takes other administrative steps.

DATES: Comments are due: June 12, 2023.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: On May 26, 2023, the Postal Service filed notice that the terms of the existing Priority Mail Express, Priority Mail, First-Class Package Service & Parcel Select Contracts, have been amended.¹ The Postal Service states that the proposed amendments will not materially affect cost coverage and therefore did not include revised supporting financial documentation or financial certification. Notices at 1.

¹ Docket No. CP2022-74, USPS Notice of Amendment to Priority Mail Express, Priority Mail, First-Class Package Service & Parcel Select Contract 11, Filed Under Seal, May 26, 2023; Docket No. CP2022-77, USPS Notice of Amendment to Priority Mail Express, Priority Mail, First-Class Package Service & Parcel Select Contract 14, Filed Under Seal, May 26, 2023 (Notices).

The Commission has reviewed the proposed amendments' terms and has determined that the amendments revise material sections of the contracts that may affect cost coverage. The Commission issued a notice initiating the instant dockets on May 30, 2023, with the deadline for filing comments on June 6, 2023.² The Commission has requested the Postal Service file supporting financial documentation reflecting the amendments' revisions.³

² See Docket Nos. CP2022-74 and CP2022-77, Notice Initiating Docket(s) for Recent Postal Service Negotiated Service Agreement Filings, May 30, 2023.

³ See Docket No. CP2022-74, Chairman's Information Request No. 2 and Notice of Filing Under Seal, June 1, 2023 (CHIR No. 2); Docket No. CP2022-77, Chairman's Information Request No. 2 and Notice of Filing Under Seal, June 1, 2023 (CHIR No. 2).

To give all interested parties sufficient time to review the responses to the information requests and formulate their comments, the Commission hereby extends the deadline for filing comments to June 12, 2023.

It is ordered:

1. Comments by interested persons are due by June 12, 2023.

2. The Secretary shall arrange for publication of this Order in the Federal Register.

By the Commission.
Erica A. Barker,
Secretary.

[FR Doc. 2023-12226 Filed 6-7-23; 8:45 am]

BILLING CODE 7710-FW-P